FEDERAL COMMUNICATIONS COMMISSION

47 CFR CH. 1

[FCC 00-401]

Development of Secondary Markets

AGENCY: Federal Communications Commission.

ACTION: Policy statement.

SUMMARY: This document outlines in general terms a series of initiatives that the Commission intends to undertake to promote secondary markets for spectrum. The Commission's current policies concerning transfer, assignment, disaggregation and partitioning of licenses allow certain licensees to market portions of their spectrum to others. In this effort, the Commission seeks to significantly expand and enhance the existing secondary markets for spectrum and radio communications services to permit spectrum to flow more freely among users and uses in response to economic demand, to the extent consistent with our other statutory mandates and public interest objectives.

FOR FURTHER INFORMATION CONTACT: Lisa Gaisford, Office of Engineering and Technology, (202) 418-7280.

SUPPLEMENTARY INFORMATION: This is a summary of the Commission's Policy Statement, FCC 00-401, adopted November 9, 2000, and released December 1, 2000. The full text of this Commission decision is available on the Commission's Internet site, at www.fcc.gov. It is also available for inspection and copying during normal business hours in the FCC Reference Information Center, Room CY-A257, 445 12th Street, SW., Washington, DC, and also may be purchased from the Commission's duplication contractor, International Transcription Service, (202) 857-3800, 1231 20th Street, NW. Washington, DC 20036.

Summary of the Policy Statement

The Commission adopted a Policy Statement setting forth the Commission's plans for facilitating secondary markets for radio spectrum that will allow and encourage licensees to make all or portions of their frequencies and/or service areas available to other entities and uses. The Commission envisions that secondary markets can flourish by facilitating arrangements such as leasing, franchising, and joint operating agreements, and improving the conditions for transferability of spectrum through, for example, partitioning or disaggregation. The Policy Statement outlines in general terms a series of initiatives that the Commission intends to undertake to promote secondary markets for spectrum. The Commission's current policies concerning transfer, assignment, disaggregation and partitioning of licenses allow certain licensees to market portions of their spectrum to others. In this new effort, the Commission seeks to significantly expand and enhance the existing secondary markets for spectrum and radio communications services to permit spectrum to flow more freely among users and uses in response to economic demand, to the extent consistent with our other statutory mandates and public interest objectives.

Federal Communications Commission.
Magalie Roman Salas,
Secretary.

[FR Doc. 00-32467 Filed 12-20-00; 8:45 am]

BILLING CODE 6712-01-P